FEDERAL COMMUNICATIONS COMMISSION

47 CFR Part 76

[CS Docket No. 99-363; FCC 00-99]

Implementation of the Satellite Home Viewer Improvement Act of 1999, Retransmission Consent Issues: Good Faith Negotiation and Exclusivity

AGENCY: Federal Communications Commission.

ACTION: Correcting amendments.

SUMMARY: This document makes a minor correction to Part 76 of the Commission's rules pertaining to retransmission consent issues which were published in the Federal Register at 65 FR 15559, March 23, 2000 regarding carriage of television broadcast signals by multichannel video programming distributors (“MVPDs”).

DATES: Effective September 2, 2003.

FOR FURTHER INFORMATION CONTACT: Kenneth Lewis, Media Bureau, (202) 418-2622.

SUPPLEMENTARY INFORMATION: The First Report and Order, FCC 00-99, adopted March 14, 2000; released March 16, 2000, approved a final rule governing the negotiation of agreements for the retransmission of television broadcast stations by MVPDs, established standards for implementing a good faith negotiation requirement of broadcasters to MVPDs, and provided clarification regarding the prohibition against exclusive retransmission consent contracts. In this document we make a non-substantive rule change to correct an error in the publication of § 76.65 of the Commission's rules.

Need for Correction

As published, the final regulations contain an error which may prove to be misleading and needs to be clarified.

List of Subjects in 47 CFR Part 76

Cable television.

Federal Communications Commission.
Marlene H. Dortch,
Secretary.

Accordingly, 47 CFR Part 76 is corrected by making the following correcting amendments:

PART 76—MULTICHANNEL VIDEO AND CABLE TELEVISION SERVICE.

1. The authority citation for Part 76 continues to read as follows:

Authority: 47 U.S.C. 151, 152, 153, 154, 301, 302, 303, 303a, 307, 308, 309, 312, 315, 317, 325, 338, 339, 503, 521, 522, 531, 532, 533, 534, 535, 536, 537, 543, 544, 544a, 545, 548, 549, 552, 554, 556, 558, 560, 561, 571, 572, 573.

2. In § 76.65, revise paragraph (c) to read as follows:

§ 76.65 Good faith and exclusive retransmission consent complaints.

* * * * *

(c) Any multichannel video programming distributor aggrieved by conduct that it believes constitutes a violation of the regulations set forth in this section or § 76.64(l) may commence an adjudicatory proceeding at the Commission to obtain enforcement of the rules through the filing of a complaint. The complaint shall be filed and responded to in accordance with the procedures specified in § 76.7.

* * * * *

[FR Doc. 03-22201 Filed 8-29-03; 8:45 am]

BILLING CODE 6712-01-P